DEPARTMENT OF COMMERCE

National Oceanic and Atmospheric Administration

RIN 0648-XC136

Marine Mammals; File No. 17152

AGENCY: National Marine Fisheries Service (NMFS), National Oceanic and Atmospheric Administration (NOAA), Commerce.

ACTION: Notice; receipt of application for permit amendment.

SUMMARY: Notice is hereby given that Point Blue Conservation Science, formerly PRBO Conservation Science, 3820 Cypress Drive, #11, Petaluma, CA 94954 (Responsible Party: Russ Bradley), has applied for an amendment to Scientific Research Permit No. 17152.

DATES: Written, telefaxed, or email comments must be received on or before November 13, 2014.

ADDRESSES: The application and related documents are available for review by selecting “Records Open for Public Comment” from the Features box on the Applications and Permits for Protected Species home page, https://apps.nmfs.noaa.gov, and then selecting File No. 17152 from the list of available applications.

These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Brendan Hurley or Amy Sloan, (301) 427-8401.

SUPPLEMENTARY INFORMATION: The subject amendment to Permit No. 17152 is requested under the authority of the Marine Mammal Protection Act of 1972, as amended (16 U.S.C. 1361 et seq.), the regulations governing the taking and importing of marine mammals (50 CFR part 216).

Permit No. 17152, issued on November 28, 2012 (77 FR 73988), authorizes the permit holder to monitor population trends, health, and ecology of pinnipeds in California over a 5-year period. To accomplish this, researchers are authorized to capture, sedate, sample, mark, instrument, photo-identify and incidentally harass harbor seals (Phoca vitulina richardii). Ten mortalities of harbor seals over the duration of the permit are authorized. Researchers are authorized to capture, mark, weigh, and sample (swabs and blood) northern elephant seals (Mirounga angustirostris); and incidentally harass elephant seals during captures and ground monitoring/photo-identification. Researchers are authorized to harass California sea lions (Zalophus californianus) and northern fur seals (Callorhinus ursinus) during ground surveys and photo-identification. The permit holder is requesting the permit be amended to include authorization for increased incidental disturbance takes for California sea lions at the South Farallon Islands (SFI) from the current level of 1,500 animals to 2,500 animals per year; increased incidental disturbance takes for Northern fur seals at SFI from the current level of 75 animals, with 2 takes per individual, to 250 animals, with one take per animal; add incidental disturbance takes for Steller sea lions (Eumetopias jubatus) at SFI of 250 takes annually; and to add a new project to assess diet of California sea lions at SFI via scat collection. The amendment would be valid for the duration of the permit, which expires on November 30, 2017.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 8, 2014.
Julia Harrison,
Chief, Permits and Conservation Division, Office of Protected Resources, National Marine Fisheries Service.

[FR Doc. 2014-24331 Filed 10-10-14; 8:45 am]

BILLING CODE 3510-22-P